NATIONAL COUNCIL ON DISABILITY

Sunshine Act Meetings

TIME AND DATE: The Members of the National Council on Disability (NCD) will hold a quarterly business meeting on Thursday, May 4, 2023, 12 p.m.-4 p.m., Eastern Daylight Time (EDT).

PLACE: This meeting will occur via Zoom videoconference. Registration is not required. Interested parties are encouraged to join the meeting in an attendee status by Zoom Desktop Client, Mobile App, or Telephone to dial-in. Updated information is available on NCD's event page at https://ncd.gov/events/2023/upcoming-council-meeting. To join the Zoom webinar, please use the following URL: https://us06web.zoom.us/j/81048854248?pwd=bEQ2T2M4UkltdmdKU3hoUEhXYy9SZz09 or enter Webinar ID: 810 4885 4248 in the Zoom app. The Passcode is: 591696. To join the Council Meeting by telephone, dial one of the preferred numbers listed. The following numbers are (for higher quality, dial a number based on your current location): (309) 205 3325; (312) 626 6799; (646) 876 9923; (646) 931 3860; (301) 715 8592; (305) 224 1968; (669) 444 9171; (669) 900 6833; (689) 278 1000; (719) 359 4580; (253) 205 0468; (253) 215 8782 or (346) 248 7799. You will be prompted to enter the meeting ID 810 4885 4248 and passcode 591696. International numbers are also available: https://us06web.zoom.us/u/kiRIRMWTy.

In the event of audio disruption or failure, attendees can follow the meeting by accessing the Communication Access Realtime Translation (CART) link provided. CART is text-only translation that occurs real time during the meeting and is not an exact transcript.

MATTERS TO BE CONSIDERED: Following welcome remarks and introductions, the Executive Committee will provide their report; followed by a policy briefing on NCD's Impact of Extreme Weather Events on People with Disabilities report; break; Chairman's report; policy updates; a Progress Report process discussion; and public comment session on the impact of genetic editing and fetal medicine on the future of people with disabilities, before adjourning.

Agenda: The times provided below are approximations for when each agenda item is anticipated to be discussed (all times Eastern Daylight Time):

Thursday, May 4, 2023

12:00-12:10 p.m.—Welcome and Call to Order

12:10-1:00 p.m.—Executive Committee Report

1:00-2:00 p.m.—Policy Briefing: NCD's Impact of Extreme Weather Events on People with Disabilities Report

2:00-2:10 p.m.—Break

2:10-2:20 p.m.—Chairman's Report

2:20-2:40 p.m.—Policy Updates

2:40-3:00 p.m.—Progress Report Process Discussion

3:00-4:00 p.m.—Public Comment

4:00 p.m.—Adjourn

Public Comment: Your participation during the public comment period provides an opportunity for us to hear from you—individuals, businesses, providers, educators, parents and advocates. Your comments are important in bringing attention to issues and priorities of the disability community and informing the work of NCD.

For the May 4 Council meeting, NCD will have an extended public comment period of one hour and requests comments from the public regarding the impact of genetic editing and fetal medicine on the future of people with disabilities. Additional information on specifics of the topic is available on NCD's event page at https://ncd.gov/events/2023/upcoming-council-meeting.

Because of the virtual format, the Council will receive public comment by email or by video or audio over Zoom.

NCD now requires advanced registration to provide public comment during a Council meeting. Interested parties may register by sending an email to PublicComment@ncd.gov with the subject line “Public Comment” and your name, organization, state, and a brief summary of the comments you intend to make in the body of your email. Deadline for registration is May 3, 8:00 p.m. EDT. All individuals desiring to make public comment are strongly encouraged to read NCD's guidelines for public comment in advance of the meeting at: https://ncd.gov/events/2023/upcoming-council-meeting.

NCD will call upon as many individuals who registered as possible as time permits. All individuals called on to make comments will be allotted three minutes to speak and then will be asked to stop. Due to time constraints, NCD makes no guarantee that those who register will be able to provide comments during the public comment session, however, all public comment submissions sent via email will be collected and provided to the Council at the conclusion of the meeting. While public comment can be submitted on any topic over email, comments during the meeting should be specific to genetic editing and fetal medicine, as the input is needed for an upcoming report. If commenters speak on another topic at the meeting, they will be asked to stop out of courtesy to those who came prepared to speak on the topic. If any time remains following the conclusion of the comments of those registered, NCD may call upon those who desire to make comments but did not register.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please notify Netterie Lewis by sending an email to nlewis@ncd.gov as soon as possible and no later than 24 hours prior to the meeting.

Due to last-minute confirmations or cancellations, NCD may substitute items without advance public notice.

Dated: April 17, 2023.
Anne C. Sommers McIntosh,
Executive Director.

[FR Doc. 2023-08409 Filed 4-17-23; 4:15 pm]

BILLING CODE 8421-02-P